DEPARTMENT OF DEFENSE

Department of the Army

32 CFR Part 584

[Docket ID: USA-2018-HQ-0008]

RIN 0702-AA84

Family Support, Child Custody, and Paternity

AGENCY: Department of the Army, DoD.

ACTION: Final rule.

SUMMARY: This final rule removes the Army's regulation governing support and nonsupport of family members; child custody involving a soldier; paternity complaints against soldiers; and adoption proceedings involving children of soldiers. This part does not impose obligations on members of the public that are not already imposed by statute. This part is obsolete and unnecessary. Therefore, this part can be removed from the CFR.

DATES: This rule is effective on November 12, 2019.

FOR FURTHER INFORMATION CONTACT: John Meixell, 571-256-7865.

SUPPLEMENTARY INFORMATION: It has been determined that publication of this CFR part removal for public comment is impracticable, unnecessary, and contrary to public interest since it is based on removing DoD internal policies and procedures that are publically available on the Department's website.

Army internal guidance governing support and nonsupport of family members; child custody involving a soldier; paternity complaints against soldiers; and adoption proceedings involving children of soldiers will continue to be published in Army Regulation 608-99 available at http://www.apd.army.mil/epubs/DR_pubs/DR_a/pdf/web/r608_99.pdf.

This rule is not significant under Executive Order (E.O.) 12866, “Regulatory Planning and Review,” therefore, E.O. 13771, “Reducing Regulation and Controlling Regulatory Costs” does not apply.

List of Subjects in 32 CFR Part 584

Adoption and foster care, Child support, Military personnel, Wages.

PART 584—[REMOVED]

Accordingly, by the authority of 5 U.S.C. 301, 32 CFR part 584 is removed.

Brenda S. Bowen,
Army Federal Register Liaison Officer.

[FR Doc. 2019-24550 Filed 11-8-19; 8:45 am]

BILLING CODE 5001-03-P